DEPARTMENT OF LABOR

Employment and Training Administration

[TA-W-54,560]

E-Z-Go Textron, Augusta, GA; Notice of Termination of Investigation

Pursuant to section 221 of the Trade Act of 1974, as amended, an investigation was initiated on March 22, 2004, in response to a petition filed by the company on behalf of workers at E-Z-Go Textron, Augusta, Georgia.

The petitioner has requested that the petition be withdrawn. Consequently, further investigation in this case would serve no purpose, and the investigation has been terminated.

Signed in Washington, DC this 12th day of April, 2004.
Elliott S. Kushner,
Certifying Officer, Division of Trade Adjustment Assistance.

[FR Doc. E4-1016 Filed 5-3-04; 8:45 am]

BILLING CODE 4510-13-P